DEPARTMENT OF TRANSPORTATION

Federal Railroad Administration

Notice of Clarification of Solicitation of Applications and Notice of Funding Availability for the Capital Assistance to States—Intercity Passenger Rail Service Program

AGENCY: Federal Railroad Administration (FRA), Department of Transportation (DOT).

ACTION: Clarification regarding solicitation for applications and notice of funding availability.

SUMMARY: On February 19, 2008, FRA published a Solicitation of Applications and Notice of Funding Availability for the Capital Assistance to States—Intercity Passenger Rail Service Program. This notice provides clarifying information related to elements of the February 19, 2008 notice.

FOR FURTHER INFORMATION CONTACT: Peter Schwartz, Office of Railroad Development (RDV-11), Federal Railroad Administration, 1200 New Jersey Avenue, SE., Washington, DC 20590. Phone: (202) 493-6360; Fax: (202) 493-6330.

SUPPLEMENTARY INFORMATION: Following publication of the notice, FRA received a number of inquires from interested States seeking additional clarification from the agency with respect to some of the items included in the notice. In order to assist applicants, FRA is issuing this supplemental notice to provide additional clarification on three items of interest. Accordingly, the sections of the February 19, 2008 notice labeled “Eligible Projects” and “Eligible Planning Projects” are amended to read as follows.

Eligible Projects: Eligible projects must be intended to result in significant benefits to intercity passenger rail service. Projects which meet this criterion, but for which the majority of benefits, as calculated by one or more measures of transportation production, may be projected to accrue to commuter or freight rail service, may be considered for funding subject to the reasonableness of the terms of the cost sharing arrangement between the parties affected by the proposed improvements. Only new projects will be eligible; projects for which construction has commenced before the date of the application will not be considered. Pre-award costs, dating from no earlier than the date of application, may be considered for funding, although an applicant will bear all risk for such costs in the event no award is made. Proposed projects must be specifically included in the applicant State's Statewide Transportation Improvement Plan at the time of application to be eligible. Matching funding must be in the form of new financial commitments toward the proposed project by the applicant and/or its partners. Expenditures which occurred prior to the date of application and expenditures on unrelated projects will not be considered.

Eligible Planning Projects: Congress has allowed up to ten percent ($3,000,000) of the funding available under the program to be used for planning activities that lead directly to the development of a passenger rail corridor investment plan. Only proposed planning projects which lead to (1) a programmatic Environmental Impact Statement for the purpose of route selection, and/or (2) a corridor transportation plan prepared in accordance with the methodologies set forth in FRA's publication, entitled “Railroad Corridor Transportation Plans: A Guidance Manual,” available at http://www.fra.dot.gov/Downloads/RRdev/corridor_planning.pdf, will be considered for funding, subject to the Selection Criteria outlined below.

Issued in Washington, DC, on April 11, 2008.
Mark E. Yachmetz,
Associate Administrator for Railroad Development.

[FR Doc. E8-8424 Filed 4-17-08; 8:45 am]

BILLING CODE 4910-06-P